DEPARTMENT OF HEALTH AND HUMAN SERVICES

Health Resources and Services Administration

Renewal of Charter for the Advisory Council on Blood Stem Cell Transplantation

AGENCY: Healthcare Systems Bureau, Health Resources and Services Administration, Department of Health and Human Services.

ACTION: Notice.

SUMMARY: The Department of Health and Human Services is hereby giving notice that the Advisory Council on Blood Stem Cell Transplantation (ACBSCT) is being rechartered. The effective date of the current charter was February 19, 2013.

FOR FURTHER INFORMATION CONTACT: Patricia Stroup, MBA, MPA, Executive Secretary, Advisory Council on Blood Stem Cell Transplantation, Health Resources and Services Administration, Department of Health and Human Services, Room 17W65 Fishers Lane, Rockville, MD 20857. Phone: (301) 443-1127; fax: (301) 594-6095; email: PStroup@hrsa.gov.

SUPPLEMENTARY INFORMATION: 42 U.S.C. 274k; section 379 of the Public Health Service Act. The Council is governed by the provisions of Public Law 92-463, as amended (5 U.S.C. appendix 2), which sets forth standards for the formation and use of advisory committees. ACBSCT advises and makes recommendations to the Secretary on matters related to the activities of the C.W. Bill Young Cell Transplantation Program and the National Cord Blood Inventory Program.

Its principal functions shall be to provide unbiased analyses and recommendations to the Secretary on the latest advances in the science of blood stem cell transplantation.

On February 13, 2013, the Secretary approved the ACBSCT charter to be renewed. The filing date of the renewed charter was February 19, 2013. There was one amendment to the previous charter, which was approved by the Secretary on May 14, 2014, with an amended filing date of May 15, 2014. Renewal of the ACBSCT charter gives authorization for the Council to operate until February 19, 2017.

A copy of the ACBSCT charter is available on the Web site for the blood cell transplant program, at http://bloodcell.transplant.hrsa.gov/. A copy of the charter also can be obtained by accessing the FACA database that is maintained by the Committee Management Secretariat under the General Services Administration. The Web site address for the FACA database is http://www.facadatabase.gov/.

Dated: March 4, 2015.
Mary K. Wakefield,
Administrator.

[FR Doc. 2015-06007 Filed 3-16-15; 8:45 am]

BILLING CODE 4165-15-P